ENVIRONMENTAL PROTECTION AGENCY

40 CFR Parts 51, 52, 72, 78, and 97

[EPA-HQ-OAR-2009-0491; FRL-9182-9]

RIN 2060-AP50

Federal Implementation Plans To Reduce Interstate Transport of Fine Particulate Matter and Ozone

AGENCY: Environmental Protection Agency (EPA).

ACTION: Notice of public hearings.

SUMMARY: The EPA is announcing three public hearings to be held for the proposed rule “Federal Implementation Plans to Reduce Interstate Transport of Fine Particulate Matter and Ozone” (Transport Rule) which is published elsewhere in today's issue of the Federal Register. The hearings will be held on Thursday, August 19, 2010, in Chicago, Illinois, on Thursday, August 26, 2010, in Philadelphia, Pennsylvania, and on Wednesday, September 1, 2010, in Atlanta, Georgia.

DATES: The public hearings will be held on August 19, 2010, August 26, 2010, and September 1, 2010.

ADDRESSES: The August 19, 2010 hearing will be held at the Wyndham, Chicago in the Grand Ballroom, Salon C located at 633 North St. Clair, Chicago, IL 60611; Telephone: 312-573-0300. The August 26, 2010, hearing will be held at the Radisson Plaza—Warwick Hotel Philadelphia in the Crystal Ballroom located at 1701 Locust Street, Philadelphia, PA 19103; Telephone: 215-735-6000. The September 1, 2010, hearing will be held at the Renaissance Downtown Atlanta located at 590 West Peachtree Street, NW., Atlanta, GA 30308; Telephone: 404-881-6000. The three public hearings will convene at 9 a.m. and continue until 8 p.m. (local time). The EPA will make every effort to accommodate all speakers that arrive and register before 8 p.m. A lunch break is scheduled from 12:30 p.m. until 2 p.m. and a dinner break is scheduled from 5 p.m. until 6:30 p.m. during the hearings. The EPA Web site for the rulemaking, which includes the proposal and information about the public hearings, can be found at: http://www.epa.gov/airtransport.

FOR FURTHER INFORMATION CONTACT: If you would like to present oral testimony at the public hearing, please contact Ms. Pamela Long, U.S. Environmental Protection Agency, Office of Air Quality Planning and Standards, Air Quality Planning Division, (C504-03), Research Triangle Park, NC 27711, telephone (919) 541-0641, fax number (919) 541-5509, e-mail address: long.pam@epa.gov (preferred method for registering), no later than 2 business days prior to each public hearing. The last day to register will be Tuesday, August 17, 2010, for the Chicago, Illinois, hearing, Tuesday, August 24, 2010, for the Philadelphia, Pennsylvania, hearing, and Monday, August 30, 2010, for the Atlanta, Georgia, hearing. If using e-mail, please provide the following information: Time you wish to speak (morning, afternoon, evening), name, affiliation, address, e-mail address, and telephone and fax numbers.

Questions concerning the August 2, 2010, proposed rule should be addressed to Mr. Tim Smith, U.S. EPA, Office of Air Quality Planning and Standards, Geographic Strategies Group, (C504-09), Research Triangle Park, NC 27711, telephone number (919) 541-4718, e-mail at smith.tim@epa.gov.

SUPPLEMENTARY INFORMATION: These public hearings are to provide the public with an opportunity to present oral comments regarding EPA's proposed Transport Rule, which identifies and limits emissions of nitrogen oxides and/or sulfur dioxide in 31 States and the District of Columbia that affect the ability of downwind States to attain and maintain compliance with the 1997 and 2006 fine particulate matter (PM2.5) national ambient air quality standards (NAAQS) and the 1997 ozone NAAQS.

Public hearing: The proposal for which EPA is holding the public hearings is published elsewhere in today's issue of the Federal Register and is available at: http://www.epa.gov/airtransport and also in the docket identified below. The public hearings will provide interested parties the opportunity to present data, views, or arguments concerning the proposal. The EPA may ask clarifying questions during the oral presentations, but will not respond to the presentations at that time. Written statements and supporting information submitted during the comment period will be considered with the same weight as any oral comments and supporting information presented at the public hearing. Written comments on the proposed rule must be postmarked by October 1, 2010.

Commenters should notify Ms. Long if they will need specific equipment, or if there are other special needs related to providing comments at the hearings. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedules, including lists of speakers, will be posted on EPA's Web site http://www.epa.gov/airtransport. Verbatim transcripts of the hearings and written statements will be included in the docket for the rulemaking.

EPA will make every effort to follow the schedule as closely as possible on the day of the hearings; however, please plan for the hearing to run either ahead of schedule or behind schedule.

How can I get copies of this document and other related information?

The EPA has established a docket for the proposed rule “Federal Implementation Plans to Reduce Interstate Transport of Fine Particulate Matter and Ozone” under Docket ID No. EPA-HQ-OAR-2009-0491 (available at http://www.regulations.gov).

As stated previously, the proposed rule was published in the Federal Register on August 2, 2010, and is available at http://www.epa.gov/airtransport and in the above-cited docket.

Dated: July 26, 2010.
Mary E. Henigin,
Acting Director, Office of Air Quality Planning and Standards.

[FR Doc. 2010-18780 Filed 7-30-10; 8:45 am]

BILLING CODE 6560-50-P